DEPARTMENT OF DEFENSE

Department of the Army

Availability for Non-Exclusive, Exclusive, or Partially Exclusive Licensing of U.S. Patent Concerning Advanced Video Controller System

AGENCY: Department of the Army, DoD.

ACTION: Notice.

SUMMARY: In accordance with 37 CFR 404.6 and 404.7, announcement is made of the availability for licensing of the invention set forth in U.S. Patent Application No. 11/313,050 entitled “Advanced Video Controller System,” filed on December 20, 2005. Foreign rights are also available. The United States Government, as represented by the Secretary of the Army, has rights in this invention.

ADDRESSES: Commander, U.S. Army Research Development and Engineering Command, ATTN: AMSRD-AMR-AS-PT-TR, Bldg 5400, Redstone Arsenal, AL 358989-5000.

FOR FURTHER INFORMATION CONTACT: For patent issues, Mr. George Winborne, Patent Attorney, (256) 955-8118. For licensing issues, Dr. Russ Alexander, Office of Research & Technology Applications, (256) 955-6018.

SUPPLEMENTARY INFORMATION: The present invention pertains to a video game control system where the actual physical motion and orientation of a player is automatically replicated and appreciated in a video environment.

Brenda S. Bowen,
Army Federal Register Liaison Officer.

[FR Doc. 07-143 Filed 1-17-06; 8:45 am]

BILLING CODE 3710-08-M